DEPARTMENT OF COMMERCE

International Trade Administration

[A-570-979]

Crystalline Silicon Photovoltaic Cells, Whether or Not Assembled Into Modules From the People's Republic of China: Amended Partial Rescission of Antidumping Duty Administrative Review

AGENCY: Enforcement and Compliance, International Trade Administration, Department of Commerce.

SUMMARY: The Department of Commerce is rescinding the administrative review of the antidumping duty order on crystalline silicon photovoltaic cells, whether or not assembled into modules, from the People's Republic of China covering the period May 25, 2012, through November 30, 2013 for the companies listed in Appendix I of this notice. The version of the partial rescission notice signed on June 24, 2014, contained a number of errors which this amended partial rescission notice corrects.¹ This amended partial rescission notice takes the place of the prior version and is being published in its place.

¹ In the version of the partial rescission notice signed on June 24, 2014, the Department inadvertently rescinded the review of Shenzen Topray Co., Ltd. and Spray Energy Co., Ltd., for which all review requests were not withdrawn and did not rescind the review of LDK Solar Hi-tech (Nanchang) Co., Ltd. for which all review requests were timely withdrawn.

DATES: Effective Date: July 28, 2014.

FOR FURTHER INFORMATION CONTACT: Brandon Farlander or Drew Jackson, AD/CVD Operations, Office IV, Import Administration, International Trade Administration, U.S. Department of Commerce, 14th Street and Constitution Avenue NW., Washington, DC 20230, telephone: (202) 482-0182 or (202) 482-4406, respectively.

SUPPLEMENTARY INFORMATION:

Background

On December 7, 2012, the Department of Commerce published in the Federal Register the antidumping duty order on crystalline silicon photovoltaic cells, whether or not assembled into modules (solar cells), from the People's Republic of China (PRC).² On December 3, 2013, the Department published a notice of opportunity to request an administrative review of the antidumping duty order on solar cells.³ The Department received multiple timely requests for an administrative review and on February 3, 2014, in accordance with section 751(a) of Tariff Act of 1930, as amended (the Act), the Department published in the Federal Register a notice of the initiation of an administrative review of that order.⁴ The administrative review was initiated with respect to 145 companies or groups of companies, and covers the period from May 25, 2012, through November 30, 2013. While there are a number of companies which remain under review, the requesting parties have timely withdrawn all review requests for certain companies, as discussed below.

² See Crystalline Silicon Photovoltaic Cells, Whether or Not Assembled Into Modules, From the People's Republic of China: Amended Final Determination of Sales at Less Than Fair Value, and Antidumping Duty Order, 77 FR 73018 (December 7, 2012).

³ See Antidumping or Countervailing Duty Order, Finding, or Suspended Investigation; Opportunity To Request Administrative Review, 78 FR 72636 (December 3, 2013).

⁴ See Initiation of Antidumping and Countervailing Duty Administrative Reviews and Request for Revocation in Part, 79 FR 6147 (February 3, 2014) (Initiation Notice).

Rescission of Review, in Part

Pursuant to 19 CFR 351.213(d)(1), the Department will rescind an administrative review, in whole or in part, if the party that requested the review withdraws its request within 90 days of the date of publication of the notice of initiation of the requested review. All requesting parties withdrew their respective requests for an administrative review of the entities listed in Appendix I within 90 days of the date of publication of the Initiation Notice. The entities listed in Appendix I had a separate rate granted in the most recently completed segment of this proceeding in which they were under review. Accordingly, the Department is rescinding this review, in part, with respect to these entities, in accordance with 19 CFR 351.213(d)(1).⁵

⁵ See Appendix I.

Companies That Have Not Demonstrated Eligibility for a Separate Rate

In addition to the companies noted above, all review requests were timely withdrawn for other companies that are currently under review that either do not have a separate rate because they have never been reviewed or did not demonstrate eligibility for a separate rate in the most recently completed segment of this proceeding in which they were under review. Therefore, these companies will continue to be subject to the PRC-wide entity rate. While the requests for review of those companies were withdrawn by all parties, those withdrawn companies are part of the PRC-wide entity which could come under review in this segment of the proceeding. If the PRC-wide entity comes under review we will make a determination with respect to the PRC-wide entity at the final results. A complete list of these entities without separate rates is contained in Appendix II.

Assessment

For the entities in Appendix I for which the Department has rescinded this review and which had a separate rate granted in the most recently completed segment of this proceeding in which they were under review, the Department intends to issue appropriate assessment instructions directly to U.S. Customs and Border Protection 15 days after the publication of this notice in the Federal Register. For these entities, antidumping duties shall be assessed on period of review entries at rates equal to the cash deposit of estimated antidumping duties required at the time of entry, or withdrawal from warehouse, for consumption, in accordance with 19 CFR 351.212(c)(1)(i).

For the entities in Appendix II, which are part of the PRC-wide entity during the instant review period (i.e., have not established their eligibility for a separate rate), the Department will issue assessment instructions 15 days after publication of the final results of this review.

Notification to Importers

This notice serves as a final reminder to importers whose entries will be liquidated as a result of this rescission notice of their responsibility under 19 CFR 351.402(f) to file a certificate regarding the reimbursement of antidumping duties prior to liquidation of the relevant entries during this review period. Failure to comply with this requirement could result in the Secretary's assumption that reimbursement of antidumping duties occurred and the subsequent assessment of double antidumping duties.

Notification Regarding Administrative Protective Orders (APOs)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: July 16, 2014.
Gary Taverman,
Senior Advisor for Antidumping and Countervailing Duty Operations.

Appendix I

The following companies, which were named in our Initiation Notice, had a separate rate granted in the most recently completed segment of this proceeding in which they were under review. Subsequently, interested parties timely withdrew all requests for review of these companies. Therefore, pursuant to 19 CFR 351.213(d)(1), we are rescinding this administrative review with respect to these companies:

• CEEG (Shanghai) Solar Science Technology Co., Ltd.

• CEEG Nanjing Renewable Energy Co., Ltd.

• China Sunergy (Nanjing) Co., Ltd.

• CNPV Dongying Solar Power Co., Ltd.

• Hanwha SolarOne (Qidong) Co., Ltd.

• JA Solar Technology Yangzhou Co., Ltd.

• Jetion Solar (China) Co., Ltd.

• Jiawei Solarchina Co. (Shenzhen), Ltd.

• JingAo Solar Co., Ltd.

• LDK Solar Hi-tech (Nanchang) Co., Ltd.

• Lightway Green New Energy Co., Ltd.

• Ningbo Komaes Solar Technology Co., Ltd.

• Risen Energy Co, Ltd.

• Shanghai JA Solar Technology Co., Ltd.

• Shanghai Solar Energy Science & Technology Co., Ltd.

• tenKsolar (Shanghai) Co., Ltd.

• Yuhuan Sinosola Science & Technology Co., Ltd.⁶

⁶ The Department notes that it initiated a review of Yuhan Sinosola Science & Technology Co., Ltd. However, the the U.S. Customs and Border Protection's ACE Secure Data Portal reflects a rate for Yuhuan Sinosola Science & Technology Co., Ltd.

• Yuhuan Solar Energy Source Co., Ltd.

Appendix II

The following companies, which were named in our Initiation Notice, either do not have a separate rate because they have never been reviewed or were not granted a separate rate in the most recently completed segment of this proceeding in which they were under review. Therefore, these companies will continue to be subject to the PRC-wide entity rate. Although interested parties timely withdrew all requests for review of these companies, the companies are part of the PRC-wide entity which could come under review in this segment of the proceeding. If the PRC-wide entity comes under review, we will make a determination with respect to the PRC-wide entity at the final results.

• Aiko Solar

• Amplesun Solar

• Beijing Hope Industry

• Best Solar Hi-tech

• China Sunergy

• Chinalight Solar

• Dai Hwa Industrial

• EGing

• ENN Solar Energy

• General Solar Power

• Golden Partner Development

• Goldpoly (Quanzhou)

• Hairun Photovoltaics Technology Co., Ltd.

• Hareon Solar Technology

• HC Solar Power Co., Ltd.

• Jia Yi Energy Technology

• Jiangxi Green Power Co. Ltd.

• Jiasheng Photovoltaic Tech

• Jiawei Solar Holding

• Jiutai Energy

• Linuo Photovoltaic

• Perfectenergy

• Polar Photovoltaics

• Qiangsheng (QS Solar)

• QXPV (Ningbo Qixin Solar Electrical Appliance Co., Ltd)

• Refine Solar

• Risun Solar (JiangXi Ruijing Solar Power Co., Ltd)

• Sanjing Silicon

• Shanghai Chaori Solar Energy

• Shangpin Solar

• Shanshan Ulica

• Shenzhen Global Solar Energy Tech

• Shuqimeng Energy Tech

• Skybasesolar

• Solargiga Energy Holdings Ltd.

• Sunflower

• Sunlink PV

• Sunvim Solar Technology

• Tainergy Tech

• Tianjin Jinneng Solar Cell

• Topray

• Topsolar

• Trony

• Weihai China Glass Solar

• Wuxi Sunshine Power Co., Ltd.

• Wuxi University Science Park International Incubator Co., Ltd.

• Yunnan Tianda

• Yunnan Zhuoye Energy

• Zhejiang Leye Photovoltaic Science & Technology Co., Ltd.

• Zhejiang Top Point Photovoltaic Co., Ltd.

• Zhejiang Wanxiang Solar Co, Ltd.

• Zhenjiang Huantai Silicon Science & Technology Co., Ltd.

[FR Doc. 2014-17730 Filed 7-25-14; 8:45 am]

BILLING CODE 3510-DS-P